DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Strategic Environmental Research and Development Program Scientific Advisory Board (“the Board”).

FOR FURTHER INFORMATION CONTACT: Jim Freeman, Advisory Committee Management Officer for the Department of Defense, 703-692-5952.

SUPPLEMENTARY INFORMATION: The Board's charter is being renewed pursuant to 10 U.S.C. 2904 and in accordance with the Federal Advisory Committee Act (FACA) of 1972 (5 U.S.C., Appendix) and 41 CFR 102-3.50(a). The charter and contact information for the Board's Designated Federal Officer (DFO) are found at https://www.facadatabase.gov/FACA/apex/FACAPublicAgencyNavigation.

The Board provides the Secretary of Defense with independent advice and recommendations on matters pertaining to the proposed research projects, including estimated costs, for research in and technology development related to environmental activities in excess of $1,000,000 as referred to it by the Strategic Environmental Research and Development Program Council (“the Council”). The Board may make recommendations to the Council regarding technologies, research, projects, programs, activities, and, if appropriate, funding within the scope of the Strategic Environmental Research and Development Program. In addition, the Board shall assist and advise the Council in identifying the environmental data and analytical assistance activities that should be covered by the policies and procedures prescribed pursuant to 10 U.S.C. 2904(e).

The Board shall be composed of no less than six and no more than 14 members, jointly approved by the Secretaries of Defense and Energy and in consultation with the Administrator of the Environmental Protection Agency. Permanent members of the Board are the Science Advisor to the President and the Administrator of the National Oceanic and Atmospheric Administration, or his or her respective designees. Non-permanent members are appointment from among persons eminent in the fields of basic sciences, engineering, ocean and environmental sciences, education, research management, international and security affairs, health physics, health sciences, or social sciences, with due regard given to the equitable representation of scientists and engineers who are women or who represent minority groups. At least one member of the Board shall be a representative of environmental public interest groups, and one member shall be a representative of the interests of State governments.

The Secretary of Defense and the Secretary of Energy, in consultation with the Administrator of the Environmental Protection Agency, shall request that the head of the National Academy of Sciences, in consultation with the head of the National Academy of Engineering and the head of the Institutes of Medicine of the National Academy of Sciences, nominate persons for appointment to the Advisory Board; that the Council on Environmental Quality nominate for appointment to the Advisory Board at least one person who is a representative of environmental public interest groups; and that the National Association of Governors nominate for appointment to the Advisory Board at least one person who is representative of the interests of State governments. Individual members will be appointed according to DoD policy and procedures, and members will serve a term of service of two-to-four years with annual renewals.

One member, pursuant to 10 U.S.C. 2904(d) according to DoD policy and procedures, will serve as Chair of the Board. No member, unless approved according to DoD policy and procedures, may serve more than two consecutive terms of service on the Board, to include its subcommittees, or serve on more than two DoD federal advisory committees at one time.

Members of the Board who are not full-time or permanent part-time Federal officers or employees, or members of the Armed Services will be appointed as experts or consultants, pursuant to 5 U.S.C. 3109, to serve as special government employee members. Board members who are full-time or permanent part-time Federal officers or employees, or members of the Armed Services will be appointed, pursuant to 41 CFR 102-3.130(a), to serve as regular government employee members.

All members of the Board are appointed to provide advice on the basis of his or her best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: August 20, 2019.
Aaron T. Siegel,
Alternate OSD Federal Register Liaison Officer, Department of Defense.

[FR Doc. 2019-18245 Filed 8-22-19; 8:45 am]

BILLING CODE 5001-06-P